DEPARTMENT OF HEALTH AND HUMAN SERVICES

Centers for Disease Control and Prevention

National Center for Health Statistics (NCHS), ICD-10 Coordination and Maintenance (C&M) Committee Meeting

AGENCY: Centers for Disease Control and Prevention (CDC), Department of Health and Human Services (HHS).

ACTION: Notice of meeting.

SUMMARY: The CDC, National Center for Health Statistics (NCHS), Classifications and Public Health Data Standards Staff, announces the following meeting of the ICD-10 Coordination and Maintenance (C&M) Committee meeting. This meeting is open to the public, limited only by audio. Online Registration is not required.

DATES: The meeting will be held on September 14, 2021, from 9:00 a.m. to 5:00 p.m., EDT, and September 15, 2021, from 9:00 a.m. to 5:00 p.m., EDT.

ADDRESSES: This is a virtual meeting. Information will be provided on each of our respective web pages when it becomes available. For CDC/NCHS https://www.cdc.gov/nchs/icd/icd10cm_maintenance.htm. For CMS https://www.cms.gov/Medicare/Coding/ICD9ProviderDiagnosticCodes/meetings.

FOR FURTHER INFORMATION CONTACT: Traci Ramirez, Medical Systems Specialist, CDC, 3311 Toledo Road, Hyattsville, Maryland 20782; Telephone: (301) 458-4454; Email: TRamirez@cdc.gov.

SUPPLEMENTARY INFORMATION:

Purpose: The ICD-10 Coordination and Maintenance (C&M) Committee is a public forum for the presentation of proposed modifications to the International Classification of Diseases, Tenth Revision, Clinical Modification and ICD-10 Procedure Coding System.

Matters To Be Considered: The tentative agenda will include discussions on ICD-10-CM and ICD-10-PCS topics listed below. Agenda items are subject to change as priorities dictate.

Please refer to the posted agenda for updates one month prior to the meeting.

ICD-10-PCS Topics

1. Administration of fostamatinib(1), (2)

2. Administration of betibeglogene autotemcel (beti-cel)(1)

3. Administration of RBX2660(1)

4. Pressure-controlled Intermittent Coronary Sinus Occlusion

5. Measurement of Exhaled Nitric Oxide (FeNo)

6. Histotripsy of Liver

7. Replacement of Meniscus with Synthetic Substitute (1)

8. Section X Updates

9. Addenda and Key Updates

(1) Applicant intends to submit a New Technology Add-on Payment (NTAP) application for FY 2023.

(2) Request is for an April 1, 2022 implementation date.

Presentations for procedure code requests are conducted by both the requestor and CMS during the Coordination & Maintenance Committee meeting. Discussion from the requestor generally focuses on the clinical issues for the procedure or technology, followed by the proposed coding options from a CMS analyst. Topics presented may also include requests for new procedure codes that relate to a new technology add-on payment (NTAP) policy request.

CMS is continuing to modify the approach for presenting the new technology add-on payment (NTAP) related ICD-10-PCS procedure code requests that involve the administration of a therapeutic agent. Consistent with the requirements of section 1886(d)(5)(K)(iii) of the Social Security Act, applicants submitted requests to create a unique procedure code to describe the administration of a therapeutic agent, such as the option to create a new code in Section X within the ICD-10-PCS procedure code classification. CMS will initially only display those meeting materials associated with the NTAP related ICD-10-PCS procedure code requests that involve the administration of a therapeutic agent on the CMS website in early August 2021 at: https://www.cms.gov/Medicare/Coding/ICD10/C-and-M-Meeting-Materials.

The three NTAP related ICD-10-PCS procedure code requests that involve the administration of a therapeutic agent are:

1. Administration of fostamatinib

2. Administration of betibeglogene autotemcel (beti-cel)

3. Administration of RBX2660

These topics will not be presented during the September 14-15, 2021 meeting. CMS will solicit public comments regarding any clinical questions or coding options included for these three procedure code topics in advance of the meeting continuing through the end of the public comment period. The deadline to submit comments for topics being considered for April 1, 2022 implementation is October 15, 2021 and the deadline to submit comments for topics being considered for an October 1, 2022 implementation is November 15, 2021. Members of the public should send any questions or comments to the CMS mailbox at: ICDProcedureCodeRequest@cms.hhs.gov by the designated deadline dates mentioned above.

CMS intends to post a question and answer document in advance of the meeting to address any clinical or coding questions that members of the public may have submitted. Following the conclusion of the meeting, CMS will post an updated question and answer document to address any additional clinical or coding questions that members of the public may have submitted during the meeting that CMS was not able to address or that were submitted after the meeting.

The NTAP related ICD-10-PCS procedure code requests that do not involve the administration of a therapeutic agent and all non-NTAP related procedure code requests will continue to be presented during the virtual meeting on September 14, 2021 consistent with the standard meeting process.

CMS will make all meeting materials and related documents available at: https://www.cms.gov/Medicare/Coding/ICD10/C-and-M-Meeting-Materials. Any inquiries related to the procedure code topics scheduled for the September 14, 2021 ICD-10 Coordination and Maintenance Committee meeting that are under consideration for April 1, 2022 or October 1, 2022 implementation should be sent to the CMS mailbox at: ICDProcedureCodeRequest@cms.hhs.gov.

ICD-10-CM Topics

1. Apnea of Newborn and Related Issues

2. Atrial Septal Defect

3. Craniosynostosis

4. Dementia

5. Encounter for follow-up examination after completed treatment for malignant neoplasm

6. Endometriosis

7. Intracranial Injury with Unknown LOC

8. Long-term (current) drug therapy

9. Primary Blast Injury

10. Problems Related to Upbringing

11. Short Stature Due to Endocrine Disorder

12. Addenda

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-15801 Filed 7-23-21; 8:45 am]

BILLING CODE 4163-18-P